DEPARTMENT OF THE INTERIOR

Fish and Wildlife Service

[FWS-HQ-WSFR-2018-N129; 91400-5110-0000; 91400-9410-0000]

Multistate Conservation Grant Program; Fiscal Year 2018 Priority List and Approval To Award Funds for Conservation Projects

AGENCY: Fish and Wildlife Service, Interior.

ACTION: Notice of receipt and award of the priority list and publication of grant awards.

SUMMARY: We, the U.S. Fish and Wildlife Service (Service), announce the Fiscal Year 2018 priority list of wildlife and sport fish conservation projects from the Association of Fish and Wildlife Agencies (Association). As required by the Wildlife and Sport Fish Restoration Programs Improvement Act of 2000, the Association submits a list of projects to us each year to consider for funding under the Multistate Conservation Grant Program. Once projects are awarded, this list must be published into the Federal Register. We have reviewed the list and recommended all projects on the list for award to the Service Director. The Service Director approved the entire list of projects for award, and we have awarded all projects from the list.

ADDRESSES: John C. Stremple, Multistate Conservation Grants Program Coordinator; Wildlife and Sport Fish Restoration Program; U.S. Fish and Wildlife Service; 5275 Leesburg Pike; MS: WSFR; Falls Church, VA 22041-3808.

FOR FURTHER INFORMATION CONTACT: John C. Stremple, via phone at 703-358-2156, via email at John_Stremple@fws.gov, or via the Federal Relay Service at 1-800-877-8339 for TTY assistance.

SUPPLEMENTARY INFORMATION: We, the U.S. Fish and Wildlife Service (Service), announce the Fiscal Year (FY) 2018 priority list of wildlife and sport fish conservation projects from the Association of Fish and Wildlife Agencies (Association). As required by the Fish and Wildlife Programs Improvement and National Wildlife Refuge System Centennial Act of 2000 (Improvement Act, Pub. L. 106-408) amended the Pittman-Robertson Wildlife Restoration Act (16 U.S.C. 669 et seq.) and the Dingell-Johnson Sport Fish Restoration Act (16 U.S.C. 777 et seq.), the Association submits a list of projects to us each year to consider for funding under the Multistate Conservation Grant Program. We have reviewed the list and recommended all projects on the list for award to the Service Director. The Service Director approved the entire list of projects for award, and we have awarded funds for all projects from the list.

Background

The Fish and Wildlife Programs Improvement and National Wildlife Refuge System Centennial Act of 2000 (Improvement Act, Pub. L. 106-408) amended the Pittman-Robertson Wildlife Restoration Act (16 U.S.C. 669 et seq.) and the Dingell-Johnson Sport Fish Restoration Act (16 U.S.C. 777 et seq.) and established the Multistate Conservation Grant Program. The Improvement Act authorizes us to award grants of up to $3 million annually from funds available under each of the restoration acts, for a total of up to $6 million annually. Projects can be funded from both funds, depending on the project activities. We may award grants to projects from a list of priority projects recommended to us by the Association of Fish and Wildlife Agencies. The Service Director, exercising the authority of the Secretary of the Interior, need not fund all projects on the list, but all projects funded must be on the list. The Improvement Act provides that funding for Multistate grants is available in the year it is appropriated and for the following year.

Funding Amounts

Total funding available for FY 2018 was $6,039,090; the total requested was approximately $6,024,583.08. The available funding was due to funding carried over from FY 2017, as well as the availability of funding that had previously been sequestered. After subtracting committed funds ($3,261,027) among the three components of the 2016 National Survey of Fishing, Hunting, and Wildlife-Associated Recreation (parts A & B), there was $2,778,063 available for new awards. The 2018 new award Priority List requested $2,763,556.08.

Funding Eligibility

Grantees under this program may use funds for sport fisheries and wildlife management and research projects, boating access development, hunter safety and education, aquatic education, fish and wildlife habitat improvements, and other purposes consistent with the enabling legislation.

To be eligible for funding, a project must benefit fish and/or wildlife conservation for at least 26 States, for a majority of the States in any one Service Region, or for one of the regional associations of State fish and wildlife agencies. We may award grants to a State, a group of States, or one or more nongovernmental organizations. For the purpose of carrying out the National Survey of Fishing, Hunting, and Wildlife-Associated Recreation, we may award grants to the Service, if requested by the Association, or to a State or a group of States. Also, the Association requires all project proposals to address the Association's National Conservation Needs, which are announced annually at the same time requests for proposals are sent out. Further, applicants must provide certification that no activities conducted under a Multistate Conservation Grant will promote or encourage opposition to regulated hunting or trapping of wildlife, or to regulated angling or taking of fish.

The Association's committees and interested nongovernmental organizations that represent conservation organizations, sportsmen's and -women's organizations, and industries that support or promote fishing, hunting, trapping, recreational shooting, bowhunting, or archery review and rank eligible project proposals. The Association's National Grants Committee recommends a final list of priority projects to the directors of the State fish and wildlife agencies for their approval by majority vote. By statute, the Association then transmits the final approved list to the Service for funding under the Multistate Conservation Grant program by October 1 of the fiscal year.

Fiscal Year 2018 Priority List of Awarded Wildlife and Sport Fish Conservation Projects

For FY 2018, the Association sent us a list of 18 new projects, plus the 3 previously approved components of the 2016 National Survey of Fishing, Hunting, and Wildlife-Associated Recreation that they recommended for funding. The list is in the following table:

ID | Title | Recipient | PR funding | DJ funding | Total 2018 grant
1 | Coordination of Farm Bill Program Implementation | AFWA | $83,880 | $55,920 | $139,800
2 | State Fish and Wildlife Agency Technical Workgroup and Evaluation Team for the 2016 National Survey | AFWA | 59,200 | 59,200 | 118,400
3 | State Fish and Wildlife Agency Director Travel—Enabling Coordination and Planning of National-Level Conservation Initiatives | AFWA | 47,500 | 47,500 | 95,000
4 | Coordinating and Planning National-Scale Conservation Initiatives through Communications | AFWA | 40,000 | 40,000 | 80,000
5 | Track Participation Trends & R3 Effectiveness via License Sales Dashboards | ASA | 69,000 | 69,000 | 138,000
6 | Coordination of the Industry, Federal, and State Agency Coalition | AFWA | 77,130 | 77,130 | 154,260
7 | Developing Data-Based Strategies to Increase Bowhunting | ATA | 130,968.11 | 43,656.03 | 174,624.14
8 | Determining Actionable Strategies for Angler R3 | RBFF | 0 | 174,562.30 | 174,562.30
9 | Improving Recruitment of New Hunters and Recreational Shooters | NSSF | 149,100 | 0 | 149,100
10 | Improving Local Angler Recruitment Events | ASA | 0 | 134,900 | 134,900
11 | Developing Strategies to Train Professionals How to Communicate About Hunting | RMEF | 149,831.21 | 0 | 149,831.21
12 | Evaluating the Promise and Potential Impacts of R3 Efforts Targeting College Students | NC State University | 89,309.18 | 33,762.25 | 123,071.43
13 | Coordination of State Fish and Wildlife Agencies' Authority to Manage Resources in Concert with Federal Actions Required by CITES | AFWA | 32,100 | 32,100 | 64,200
14 | Increasing Awareness and Knowledge of State Fish and Wildlife Management (Based on AFWA Strategic Plan Goal 2) | AFWA | 50,000 | 50,000 | 100,000
15 | Management Assistance Team (MAT) and National Conservation Leadership Institute (NCLI) | AFWA | 255,667.50 | 304,679.50 | 560,347
16 | Multistate Conservation Grant Program Management | AFWA | 52,500 | 52,500 | 105,000
17 | Conservation Collaboration across the United States through the National Fish Habitat Partnership | AFWA | 0 | 209,960 | 209,960
18 | Chronic Wasting Disease Management in the West | WY Game & Fish | 92,500 | 0 | 92,500
|  |  | 1,378,686 | 1,384,870.08 | 2,763,556.08
NS | 2016 Survey Coordination (Part A) | FWS | 136,102 | 136,102 | 272,204
NS | 2016 National Report (Part A) | U.S. Census | 185,106 | 185,106 | 370,212
NS | 2016 Fifty-State Survey Reports (Part B) | Rockville Institute | 1,309,305.50 | 1,309,305.50 | 2,618,611
|  |  | 3,009,199.50 | 3,015,383.58 | 6,024,583.08
PR Funding: Pittman-Robertson Wildlife Restoration funds.
DJ Funding: Dingell-Johnson Sport Fish Restoration funds.
AFWA: Association of Fish and Wildlife Agencies.
ASA: American Sportfishing Association.
ATA: Archery Trade Association.
NC State University: North Carolina State University.
NFHB: National Fish Habitat Board.
NS: 2016 National Survey of Fishing, Hunting, and Wildlife-Associated Recreation.
NSSF: National Shooting Sports Foundation.
RMEF: Rocky Mountain Elk Foundation, Inc.
RBFF: Recreational Boating & Fishing Foundation.
WY Game and Fish: Wyoming Game and Fish Commission.

Dated: November 3, 2019.
Margaret E. Everson,
Principal Deputy Director, Exercising the Authority of the Director for the U.S. Fish and Wildlife Service.

[FR Doc. 2020-01017 Filed 1-22-20; 8:45 am]

BILLING CODE 4333-15-P